DEPARTMENT OF HOMELAND SECURITY

Coast Guard

46 CFR Parts 1, 4, 6, 10, 11, 12, 13, 14, 15, 24, 27, 28, 30, 35, 38, 42, 44, 45, 52, 62, 67, 69, 70, 71, 72, 76, 77, 78, 90, 92, 95, 97, 105, 109, 111, 114, 115, 117, 119, 121, 122, 131, 150, 151, 153, 154, 159, 160, 161, 162, 163, 164, 167, 169, 171, 172, 174, 175, 176, 180, 181, 182, 185, 188, 189, 190, 194, 196, 197, and 199

[Docket No. USCG-2014-0688]

RIN 1625-ZA33

Shipping and Transportation; Technical, Organizational, and Conforming Amendments

AGENCY: Coast Guard, DHS.

ACTION: Final rule.

SUMMARY: The Coast Guard is issuing a final rule that makes non-substantive changes throughout Title 46 of the Code of Federal Regulations. The purpose of this rule is to make conforming amendments and technical corrections to Coast Guard regulations. This rule will have no substantive effect on the regulated public. These changes are provided to coincide with the annual recodification of Titles 46 and 49 on October 1, 2014.

DATES: This final rule is effective September 29, 2014.

ADDRESSES: Documents mentioned in this preamble as being available in the docket are part of docket USCG-2014-0688 and are available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov and following the instructions on that Web site.

FOR FURTHER INFORMATION CONTACT: If you have questions on this final rule, call or email Mr. Paul H. Crissy, Coast Guard; telephone 202-372-1093, email Paul.H.Crissy@uscg.mil. If you have questions on viewing or submitting material to the docket, call Cheryl Collins, Program Manager, Docket Operations, telephone 202-366-9826.

SUPPLEMENTARY INFORMATION:

Table of Contents for Preamble

I. Abbreviations

II. Regulatory History

III. Background and Purpose

IV. Discussion of the Rule

V. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

CFR Code of Federal Regulations

DDE Designated Duty Engineer

DHS Department of Homeland Security

E.O. Executive Order

FR Federal Register

MMC Merchant Mariner Credential

OMB Office of Management and Budget

§ Section symbol

TRE Type-rating Endorsement

U.S.C. United States Code

II. Regulatory History

We did not publish a notice of proposed rulemaking for this rule. Under 5 U.S.C. 553(b)(A), the Coast Guard finds that this rule is exempt from notice and comment rulemaking requirements, because these changes involve rules of agency organization, procedure, or practice. In addition, the Coast Guard finds that notice and comment procedures are unnecessary under 5 U.S.C. 553(b)(B), as this rule consists only of corrections and editorial, organizational, and conforming amendments, and that these changes will have no substantive effect on the public. Under 5 U.S.C. 553(d)(3), the Coast Guard finds that good cause exists for making this final rule effective upon publication in the Federal Register. It is unnecessary to delay the effective date of this rule because the final rule consists only of corrections and editorial, organizational, and conforming amendments that have no substantive effect on the public.

III. Background and Purpose

On the 1st of October each year, the printed editions of Titles 46 and 49 of the Code of Federal Regulations (CFR) are re-codified. This rule, which becomes effective September 29, 2014 makes technical and editorial corrections throughout Title 46. There are no technical or editorial corrections for Title 49 this year. This rule does not create or change any substantive requirements. For a comprehensive list of each change in Title 46 in the CFR, see the Table of Changes available in the docket for this rulemaking.

IV. Discussion of the Rule

This rule corrects misspellings and punctuation in sections throughout Title 46 in the CFR. For a list of each correction, see the Table of Misspellings available in the docket for this rulemaking.

This rule amends 46 CFR 6.06(b)(2) to reflect a name change from “Military Sea Transportation Service” to “Military Sealift Command.”

This rule amends 46 CFR 10.211(c) to strike the phrase “Beginning April 15, 2009,” as it is unnecessary. When originally drafted, this section was to become effective April 15, 2009. However, the rule containing this provision did not publish prior to that date, so the qualifying date was and is unnecessary.

This rule corrects a typographical error in 46 CFR 11.201(h) by removing an extra (1) before the sentence beginning with “The firefighting course must have been completed. . . .” The (1) is incorrectly included in a paragraph already labeled (1).

This rule amends 46 CFR 11.301(g)(3) and 12.601(c)(3) by correcting the phrase “was completed before March 24, 2014 . . .” to “commenced before March 24, 2014.” This change corrects a typo that is inconsistent with other provisions of 11.301. This change also reflects the intent of the Implementation of the Amendments to the International Convention on Standards of Training, Certification and Watchkeeping for Seafarers, 1978, and Changes to National Endorsements (STCW) final rule, and is supported by the final rule's preamble. 78 FR 77862. The STCW regulations were written with timing and implementation in mind. The training required by the STCW final rule will take some time to implement. To avoid a delay in the availability of qualified candidates, the existing training would need to be sufficient, in the interim, to qualify officers for the intended credential. Therefore, training that was “commenced by March 24, 2014” was the true intent of the STCW regulations, and therefore is corrected in this amendment.

This rule amends several sections of 46 CFR part 11 to align language in the regulations with what is actually written on Merchant Mariner Credential (MMC) endorsements. For a list of corrections, see Table 1.

Table 1—Corrections in 46 CFR Part 11
CFR Parts | Old text/current CFR | New text/revision
11.305 (section heading) | Requirements to qualify for an STCW endorsement as master on vessels of 3,000 GT or more (management level) | Requirements to qualify for an STCW endorsement as master of vessels of 3,000 GT or more (management level).
Table 1 to 11.305(E) | STCW Endorsement as Master on Vessels of 3,000 GT or More | STCW Endorsement as Master of Vessels of 3,000 GT or More.
11.307 (section heading) | Requirements to qualify for an STCW endorsement as chief mate on vessels of 3,000 GT or more (management level) | Requirements to qualify for an STCW endorsement as chief mate of vessels of 3,000 GT or more (management level).
Table 1 to 11.307(E) | STCW Endorsement as Chief Mate on Vessels of 3,000 GT or More | STCW Endorsement as Chief Mate of Vessels of 3,000 GT or More.
Table 1 to 11.309(E) | STCW Endorsement as OICNW on Vessels of 500 GT or More | STCW Endorsement as OICNW of Vessels of 500 GT or More.
Table 1 to 11.311(D) | STCW Endorsement as Master on Vessels of 500 GT or More and Less Than 3,000 GT | STCW Endorsement as Master of Vessels of 500 GT or More and Less Than 3,000 GT.
Table 1 to 11.313(D) | STCW Endorsement as Chief Mate on Vessels of 500 GT or More and Less Than 3,000 GT | STCW Endorsement as Chief Mate of Vessels of 500 GT or More and Less Than 3,000 GT.
11.459 (section heading) | Requirements for national endorsement as master or mate of rivers | Requirements for national endorsement as master or mate on rivers.

This rule amends 46 CFR 11.309(a)(4)(v), 11.317(a)(3)(iii), 11.319(a)(4)(v), 11.321(a)(3)(iii), 11.329(a)(3)(iii), and 11.335(a)(3)(iii) to include proficiency in survival craft and rescue boats other than lifeboats and fast rescue boats (Personal Survival Craft-limited). This change clarifies the language in these sections to be consistent with 46 CFR 12.617(a)(2) and the intent of the STCW regulations, since an endorsement holder could be required to hold one of several Personal Survival Craft endorsements.

This rule amends 46 CFR 11.329(e) to replace an erroneously printed table. The current table is a repeat of Table 11.327(d), and the correct table was included in the final rule text submitted to the Office of the Federal Register. The correct table, which appears below in the regulatory text, was available for notice and comment in the STCW SNPRM, and there were no comments made regarding that table. [78 FR 77796].

This rule amends Table 1 to 11.331(e) to include a missing footnote. As in Tables 11.325(d) footnote 5, 11.327(d) footnote 4, and 11.329(e) footnote 1, the table should limit vessels less than 500 GRT for both Designated Duty Engineer (DDE) entries. This change is consistent with the limitations placed on DDEs in Part 11 and therefore the added footnote is a reminder of those limitations.

This rule amends 46 CFR 11.335(b) to remove a redundant phrase. The phrase that will be omitted from paragraph (b) is repeated in subparagraph (b)(2). Removal of this phrase brings clarity to the paragraph but does not change the requirements.

This rule amends 46 CFR 11.493(b) and (c) to correct misstated terminology. The words “an endorsement as” will be removed before “master (OSV)” as the master (OSV) of 1,600 GRT/3,000 GT or more is not the name of an endorsement.

This rule amends 46 CFR 11.495(b) and (c) to correct misstated terminology. The words “for an endorsement as” will be removed before “chief mate (OSV)”, as chief mate (OSV) of 1,600 GRT/3,000 GT or more is not the name of an endorsement.

This rule amends 46 CFR 11.555(a)(2) to align the paragraph with the correct endorsement. We add the word “assistant” because this section applies to assistant engineers.

This rule amends paragraphs (b) through (e) in 46 CFR 11.821 to correct terminology relating to an endorsement. The high-speed craft type-rating endorsement (TRE) was erroneously referred to as a “certificate;” however, in 46 CFR 11.109(a)(44), it is identified as one of the national officer endorsements to an MMC. This was an oversight in drafting.

This rule amends 46 CFR 11.903(c)(1) to remove the phrase “and STCW endorsement,” as it is unnecessary. This paragraph speaks to national endorsements and does not require a discussion with regard to STCW endorsements. Therefore, the reference to an STCW endorsement is removed.

In Table 2 of 46 CFR 11.910, under the National Maritime Law heading, the title of “Licensing and Certification of Seaman” is changed to “Credentialing of Seaman.” This change reflects the movement from a license to a credential. The change does not alter the substance of the relevant course, but rather changes the title of the course to improve accuracy.

This rule amends the following sections to remove repetitive tables: 46 CFR 24.05-1(a), 70.05-1(a), 90.05-1(a), and 188.05-1(a). The repetitive tables are duplications of information contained in Table 2.01-7(A), and therefore we replace the tables with a reference back to the complete, original table published as Table 2.01-7(A) in 46 CFR 2.01-7(a). The removal of the duplicative tables will alleviate any errors in reproducing the tables and ensure that any changes to Table 2.01-7(A) will be consistent throughout Title 46.

This rule amends 46 CFR 28.50, 28.255(a)(1), 35.20-1(a), 78.05-1(a), 78.10-1, 97.05-1(a), 97.10-5, 131.910, 167.65-45(a), and 196.05-1(a), to reflect an agency name change from “the Defense Mapping Agency Hydrographic/Topographic Center” or “the National Imagery and Mapping Agency” to “the National Geospatial-Intelligence Agency.” Sections 35.20-1(c), 78.05-1(b), 97.05-1(b), 167.65-45(b), and 196.05-1(b) are amended to incorporate the same name change as well as to expand the weekly notices to national coverage of local notices to mariners instead of being geographically limited. A Web site is added where the notices are accessible to the public free of charge.

Further, these sections will incorporate the name change and also the new method of access for worldwide weekly notices. The former system in which worldwide information is accessed is no longer available. Therefore, we revise the sections to include a reference to a Web site where the notices are accessible to the public.

This rule amends 46 CFR 52.25-5 to correct a typographical error. The word “of” is repeated twice. This rule will remove that repetition.

This rule amends 46 CFR 76.10-10 to remove the “-T/ALL” designation from its section heading. This designation is not applicable to its subpart and was included erroneously.

This rule amends 46 CFR 153.1119(c)(1) to update the contact information for the Coast Guard's Office of Design and Engineering Standards (CG-ENG). This final rule updates the phone number to 202-372-1420, and adds the HazmatStandards@uscg.mil email address.

V. Regulatory Analyses

We developed this rule after considering numerous statutes and Executive Orders (E.O.s) related to rulemaking. Below we summarize our analyses based on these statutes and E.O.s.

A. Regulatory Planning and Review

E.O.s 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility.

This rule is not a significant regulatory action under section 3(f) of E.O. 12866 as supplemented by E.O. 13563, and does not require an assessment of potential costs and benefits under section 6(a)(3) of E.O. 12866. The Office of Management and Budget (OMB) has not reviewed it under E.O. 12866. Nonetheless, we assessed the costs and benefits of the rule to ascertain its probable impacts on industry. Because this rule involves non-substantive changes and internal agency practices and procedures, it will not impose any additional costs on the public.

B. Small Entities

Under the Regulatory Flexibility Act, 5 U.S.C. 601-612, rules exempt from the notice and comment requirements of the Administrative Procedure Act are not required to examine the impact of the rule on small entities. Nevertheless, we have considered whether this rule would have a significant economic impact on a substantial number of small entities. The term “small entities” comprises small businesses, not-for-profit organizations that are independently owned and operated and are not dominant in their fields, and governmental jurisdictions with populations of less than 50,000.

There is no cost to this rule, and we do not expect it to have an impact on small entities, because the provisions of this rule are technical and non-substantive. This rule will have no substantive effect on the public and will impose no additional costs. Therefore, the Coast Guard certifies under 5 U.S.C. 605(b) that this rule will not have a significant economic impact on a substantial number of small entities.

C. Assistance for Small Entities

Under section 213(a) of the Small Business Regulatory Enforcement Fairness Act of 1996, Public Law 104-121, we offer to assist small entities in understanding this rule so that they can better evaluate its effects on them and participate in the rulemaking. If this rule would affect your small business, organization, or governmental jurisdiction, and you have questions concerning its provisions or options for compliance, please contact Mr. Paul Crissy by telephone at 202-372-1093, or via email at Paul.H.Crissy@uscg.mil. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for no new collection of information under the Paperwork Reduction Act of 1995, 44 U.S.C. 3501-3520.

E. Federalism

A rule has implications for federalism under E.O. 13132 (“Federalism”) if it has a substantial direct effect on the States, on the relationship between the national government and the States, or on the distribution of power and responsibilities among the various levels of government. We have analyzed this rule under that order and have determined that it is consistent with the fundamental federalism principles and preemption requirements described in E.O. 13132.

F. Unfunded Mandates Reform Act

The Unfunded Mandates Reform Act of 1995, 2 U.S.C. 1531-1538, requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

G. Taking of Private Property

This rule will not cause a taking of private property or otherwise have taking implications under E.O. 12630 (“Governmental Actions and Interference with Constitutionally Protected Property Rights”).

H. Civil Justice Reform

This rule meets applicable standards in sections 3(a) and 3(b)(2) of E.O. 12988 (“Civil Justice Reform”) to minimize litigation, eliminate ambiguity, and reduce burden.

I. Protection of Children

We have analyzed this rule under E.O. 13045 (“Protection of Children from Environmental Health Risks and Safety Risks”). This rule is not an economically significant rule and would not create an environmental risk to health or risk to safety that might disproportionately affect children.

J. Indian Tribal Governments

This rule does not have tribal implications under E.O. 13175 (“Consultation and Coordination with Indian Tribal Governments”), because it would not have a substantial direct effect on one or more Indian tribes, on the relationship between the Federal Government and Indian tribes, or on the distribution of power and responsibilities between the Federal Government and Indian tribes.

K. Energy Effects

We have analyzed this rule under E.O. 13211 (“Actions Concerning Regulations That Significantly Affect Energy Supply, Distribution, or Use”). We have determined that it is not a “significant energy action” under that order because it is not a “significant regulatory action” under E.O. 12866 and is not likely to have a significant adverse effect on the supply, distribution, or use of energy. The Administrator of OMB's Office of Information and Regulatory Affairs has not designated it as a significant energy action. Therefore, it does not require a Statement of Energy Effects under E.O. 13211.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies. This final rule does not use technical standards. Therefore, we did not consider the use of voluntary consensus standards in this rule.

M. Environment

We have analyzed this rule under Department of Homeland Security Management Directive 023-01 and Commandant Instruction M16475.lD, which guide the Coast Guard in complying with the National Environmental Policy Act of 1969, 42 U.S.C. 4321-4370f, and have concluded that this action is one of a category of actions that do not individually or cumulatively have a significant effect on the human environment. This rule is categorically excluded under section 2.B.2, figure 2-1, paragraph (34)(a) of the Instruction. This rule involves amendments to regulations which are editorial or procedural. An environmental analysis checklist and a categorical exclusion determination are available in the docket for this rule where indicated under ADDRESSES.

List of Subjects

46 CFR Part 1

Administrative practice and procedure, Organization and functions (Government agencies), Reporting and recordkeeping requirements.

46 CFR Part 4

Administrative practice and procedure, Drug testing, Investigations, Marine safety, Nuclear vessels, Radiation protection, Reporting and recordkeeping requirements, Safety, Transportation.

46 CFR Part 6

Navigation (water), Reporting and recordkeeping requirements, Vessels.

46 CFR Part 10

Penalties, Reporting and recordkeeping requirements, Schools, Seamen.

46 CFR Part 11

Incorporation by reference, Penalties, Reporting and recordkeeping requirements, Schools, Seamen.

46 CFR Part 12

Penalties, Reporting and recordkeeping requirements, Seamen.

46 CFR Part 13

Cargo vessels, Reporting and recordkeeping requirements, Seamen.

46 CFR Part 14

Oceanographic research vessels, Reporting and recordkeeping requirements, Seamen.

46 CFR Part 15

Reporting and recordkeeping requirements, Seamen, Vessels.

46 CFR Part 24

Marine safety.

46 CFR Part 27

Fire prevention, Marine safety, Reporting and recordkeeping requirements, Vessels.

46 CFR Part 28

Alaska, Fire prevention, Fishing vessels, Marine safety, Occupational safety and health, Reporting and recordkeeping requirements, Seamen.

46 CFR Part 30

Cargo vessels, Foreign relations, Hazardous materials transportation, Penalties, Reporting and recordkeeping requirements, Seamen.

46 CFR Part 35

Cargo vessels, Marine safety, Navigation (water), Occupational safety and health, Reporting and recordkeeping requirements, Seamen.

46 CFR Part 38

Cargo vessels, Fire prevention, Gases, Hazardous materials transportation, Marine safety, Reporting and recordkeeping requirements.

46 CFR Part 42

Penalties, Reporting and recordkeeping requirements, Vessels.

46 CFR Parts 44, 52, 62, 67

Reporting and recordkeeping requirements, Vessels.

46 CFR Part 45

Great Lakes, Reporting and recordkeeping requirements, Vessels.

46 CFR Part 69

Measurement standards, Penalties, Reporting and recordkeeping requirements, Vessels.

46 CFR Parts 70 and 71

Marine safety, Passenger vessels, Reporting and recordkeeping requirements.

46 CFR Part 72

Fire prevention, Marine safety, Occupational safety and health, Passenger vessels, Seamen.

46 CFR Part 76

Fire prevention, Marine safety, Passenger vessels.

46 CFR Part 77

Marine safety, Navigation (water), Passenger vessels.

46 CFR Part 78

Marine safety, Navigation (water), Passenger vessels, Penalties, Reporting and recordkeeping requirements.

46 CFR Part 90

Cargo vessels, Marine safety.

46 CFR Part 92

Cargo vessels, Fire prevention, Marine safety, Occupational safety and health, Seamen.

46 CFR Part 95

Cargo vessels, Fire prevention, Marine safety.

46 CFR Part 97

Cargo vessels, Marine safety, Navigation (water), Reporting and recordkeeping requirements.

46 CFR Part 105

Cargo vessels, Fishing vessels, Hazardous materials transportation, Marine safety, Petroleum, Seamen.

46 CFR Part 109

Marine safety, Occupational safety and health, Oil and gas exploration, Reporting and recordkeeping requirements, Vessels.

46 CFR Part 111

Vessels.

46 CFR Parts 114 and 175

Marine safety, Passenger vessels, Reporting and recordkeeping requirements.

46 CFR Parts 115 and 176

Fire prevention, Marine safety, Passenger vessels, Reporting and recordkeeping requirements.

46 CFR Parts 117 and 119

Marine safety, Passenger vessels.

46 CFR Part 121

Communications equipment, Marine safety, Navigation (water), Passenger vessels.

46 CFR Part 122

Marine safety, Passenger vessels, Penalties, Reporting and recordkeeping requirements.

46 CFR Part 131

Cargo vessels, Fire prevention, Marine safety, Navigation (water), Occupational safety and health, Reporting and recordkeeping requirements.

46 CFR Part 150

Hazardous materials transportation, Marine safety, Occupational safety and health, Reporting and recordkeeping requirements.

46 CFR Part 151

Cargo vessels, Hazardous materials transportation, Marine safety, Reporting and recordkeeping requirements, Water pollution control.

46 CFR Part 153

Administrative practice and procedure, Cargo vessels, Hazardous materials transportation, Marine safety, Reporting and recordkeeping requirements, Water pollution control.

46 CFR Part 154

Cargo vessels, Gases, Hazardous materials transportation, Marine safety, Reporting and recordkeeping requirements.

46 CFR Part 159

Business and industry, Laboratories, Marine safety, Reporting and recordkeeping requirements.

46 CFR Part 160

Marine safety, Reporting and recordkeeping requirements.

46 CFR Parts 161 and 164

Fire prevention, Marine safety, Reporting and recordkeeping requirements.

46 CFR Part 162

Fire prevention, Marine safety, Oil pollution, Reporting and recordkeeping requirements.

46 CFR Part 163

Marine safety.

46 CFR Part 167

Fire prevention, Marine safety, Reporting and recordkeeping requirements, Schools, Seamen, Vessels.

46 CFR Part 169

Fire prevention, Marine safety, Reporting and recordkeeping requirements, Schools, Vessels.

46 CFR Parts 171 and 180

Marine safety, Passenger vessels.

46 CFR Part 172

Cargo vessels, Hazardous materials transportation, Marine safety.

46 CFR Part 174

Marine safety, Reporting and recordkeeping requirements, Vessels.

46 CFR Part 181

Fire prevention, Marine safety, Passenger vessels.

46 CFR Part 182

Marine safety, Passenger vessels.

46 CFR Part 185

Marine safety, Passenger vessels, Reporting and recordkeeping requirements.

46 CFR Part 188

Marine safety, Oceanographic research vessels.

46 CFR Part 189

Marine safety, Oceanographic research vessels, Reporting and recordkeeping requirements.

46 CFR Part 190

Fire prevention, Marine safety, Occupational safety and health, Oceanographic research vessels.

46 CFR Part 194

Explosives, Hazardous materials transportation, Marine safety, Oceanographic research vessels.

46 CFR Part 196

Marine safety, Oceanographic research vessels, Reporting and recordkeeping requirements.

46 CFR Part 197

Benzene, Diving, Marine safety, Occupational safety and health, Reporting and recordkeeping requirements, Vessels.

46 CFR Part 199

Cargo vessels, Marine safety, Oil and gas exploration, Passenger vessels, Reporting and recordkeeping requirements.

For the reasons discussed in the preamble, the Coast Guard amends 46 CFR Parts 1, 4, 6, 10, 11, 12, 13, 14, 15, 24, 27, 28, 30, 35, 38, 42, 44, 45, 52, 62, 67, 69, 70, 71, 72, 76, 77, 78, 90, 92, 95, 97, 105, 109, 111, 114, 115, 117, 119, 121, 122, 131, 150, 151, 153, 154, 159, 160, 161, 162, 163, 164, 167, 169, 171, 172, 174, 175, 176, 180, 181, 182, 185, 188, 189, 190, 194, 196, 197, and 199 as follows:

Title 46—SHIPPING

PART 1—ORGANIZATION, GENERAL COURSE AND METHODS GOVERNING MARINE SAFETY FUNCTIONS

1. The authority citation for part 1 continues to read as follows:

Authority: 5 U.S.C. 552; 14 U.S.C. 633; 46 U.S.C. 7701; 46 U.S.C. Chapter 93; Pub. L. 107-296, 116 Stat. 2135; Department of Homeland Security Delegation No. 0170.1; section 1.01-35 also issued under the authority of 44 U.S.C. 3507.

§ 1.01-15 [Amended]

2. Amend 1.01-15 as follows:

a. In paragraph (a)(1), remove the text “credentialiing,” and add, in its place, the text “credentialing,”; and

b. In paragraph (c)(2), after the text “Refer to the” and before the text “detachment, the Suspension”, remove the text “processingNMC” and add, in its place, the text “processing NMC”.

PART 4—MARINE CASUALTIES AND INVESTIGATIONS

3. The authority citation for part 4 continues to read as follows:

Authority: 33 U.S.C. 1231; 43 U.S.C. 1333; 46 U.S.C. 2103, 2303a, 2306, 6101, 6301, and 6305; 50 U.S.C. 198; Department of Homeland Security Delegation No. 0170.1. Subpart 4.40 issued under 49 U.S.C. 1903(a)(1)(E).

§ 4.05-1 [Amended]

4. In § 4.05-1(a)(1), after the text “unintended strike of (” and before the text “with) a bridge”, remove the text “allison” and add, in its place, the text “allision”.

PART 6—WAIVERS OF NAVIGATION AND VESSEL INSPECTION LAWS AND REGULATIONS ¹

¹ This is also codified in 33 CFR part 19.

5. The authority citation for part 6 continues to read as follows:

Authority: Act Dec. 27, 1950, Ch. 1155, secs. 1, 2, 64 Stat. 1120 (see 46 U.S.C. App. note prec. 1); Department of Homeland Security Delegation No. 0170.1.

§ 6.06 [Amended]

6. In § 6.06(b)(2), after the words “national defense and is necessary for the Military”, and before the words “to carry out an assigned mission;” remove the words “Sea Transportation Service” and add, in their place, the words “Sealift Command”.

PART 10—MERCHANT MARINER CREDENTIAL

7. The authority citation for part 10 continues to read as follows:

Authority: 14 U.S.C. 633; 31 U.S.C. 9701; 46 U.S.C. 2101, 2103, 2110; 46 U.S.C. Chapter 71; 46 U.S.C. Chapter 73; 46 U.S.C. Chapter 75; 46 U.S.C. 2104; 46 U.S.C. 7701, 8903, 8904, and 70105; Executive Order 10173; Department of Homeland Security Delegation No. 0170.1.

§ 10.211 [Amended]

8. In § 10.211(c), after the text “Fingerprints.” and before the text “the Transportation Security Administration (TSA)”, remove the text “Beginning April 15, 2009,”.

PART 11—REQUIREMENTS FOR OFFICER ENDORSEMENTS

9. The authority citation for part 11 continues to read as follows:

Authority: 14 U.S.C. 633; 31 U.S.C. 9701; 46 U.S.C. 2101, 2103, and 2110; 46 U.S.C. Chapter 71; 46 U.S.C. 7502, 7505, 7701, 8906, and 70105; Executive Order 10173; Department of Homeland Security Delegation No. 0170.1. Section 11.107 is also issued under the authority of 44 U.S.C. 3507.

§ 11.201 [Amended]

10. In § 11.201(h), after the text “approved by the Coast Guard.” and before the text “The firefighting course must have been completed”, remove the text “(1)”; and in § 11.201(h)(2), after the text “advanced firefighting in” and before the text “and VI/3 of the STCW”, remove the text “RegulationsVI/1”, and add in its place the text “Regulations VI/1”.

§ 11.301 [Amended]

11. In § 11.301(g)(3), after the words “approved seagoing service that” and before the words “before March 24, 2014,” remove the words “was completed” and add, in their place, the word “commenced”.

§ 11.305 [Amended]

12. Amend § 11.305 as follows:

a. In § 11.305 heading, after the words “an STCW endorsement as master” and before the words “vessels of 3,000 GT or more”, remove the word “on” and add, in its place, the word “of”; and

b. In Table 1 to § 11.305(E) heading, after the words “STCW Endorsement as Master” and before the words “Vessels of 3,000 GT or More”, remove the word “on” and add, in its place, the word “of”.

§ 11.307 [Amended]

13. Amend § 11.307 as follows:

a. In the heading, after the words “STCW endorsement as chief mate” and before the words “vessels of 3,000 GT or more”, remove the word “on” and add, in its place, the word “of”; and

b. In Table 1 to § 11.307(E) heading, after the words “STCW Endorsement as Chief Mate” and before the words “Vessels of 3,000 GT or More”, remove the word “on” and add, in its place, the word “of”.

§ 11.309 [Amended]

14. Amend § 11.309 as follows:

a. In paragraph (a)(4)(v), after the words “than fast rescue boats” and before the “.”, add the words “(PSC) or proficiency in survival craft and rescue boats other than lifeboats and fast rescue boats (PSC-limited)”; and

b. In Table 1 to § 11.309(E) heading, after the words “STCW Endorsement as OICNW” and before the words “Vessels of 500 GT or More”, remove the word “on” and add, in its place, the word “of”.

§ 11.311 [Amended]

15. In Table 1 to § 11.311(D) heading, after the words “STCW Endorsement as Master” and before the words “Vessels of 500 GT or More”, remove the word “on” and add, in its place, the word “of”.

§ 11.313 [Amended]

16. In Table 1 to § 11.313(D) heading, after the words “STCW Endorsement as Chief Mate” and before the words “Vessels of 500 GT or More”, remove the word “on” and add, in its place, the word “of”.

§ 11.317 [Amended]

17. In § 11.317 (a)(3)(iii), after the words “boats other than fast rescue boats” and before the “.”, add the words “(PSC) or proficiency in survival craft and rescue boats other than lifeboats and fast rescue boats (PSC-limited)”.

§ 11.319 [Amended]

18. In § 11.319(a)(4)(v), after the words “other than fast rescue boats” and before the period, add the words “(PSC) or proficiency in survival craft and rescue boats other than lifeboats and fast rescue boats (PSC-limited)”.

§ 11.321 [Amended]

19. In § 11.321(a)(3)(iii), after the words “other than fast rescue boats” and before the period, add the words “(PSC) or proficiency in survival craft and rescue boats other than lifeboats and fast rescue boats (PSC-limited)”.

§ 11.329 [Amended]

20. Amend § 11.329 as follows:

a. In § 11.329(a)(3)(iii), before the words “boats other than fast rescue boats” and before the period, add the words “(PSC) or proficiency in survival craft and rescue boats other than lifeboats and fast rescue boats (PSC-limited)”; and

b. Add Table 1 to § 11.329(e) to read as follows:

§ 11.329 Requirements to qualify for an STCW endorsement as Officer in Charge of an Engineering Watch (OICEW) in a manned engineroom or designated duty engineer in a periodically unmanned engineroom on vessels powered by main propulsion machinery of 750 kW/1,000 HP propulsion power or more (operational level).

* * * * *

Table 1 to § 11.329(E)—STCW Endorsement as OICEW in a Manned Engine Room or Designated Duty Engineer in a Periodically Unmanned Engine Room on Vessels Powered by Main Propulsion Machinery of 750 kW/1,000 HP Propulsion Power or More
[Operational level]
Entry path from national endorsements | Sea service * | Competence— STCW Table A- III/1 ** | Training required by this section ***
Second assistant engineer any horsepower | None | Yes | Yes
Third assistant engineer any horsepower | None | Yes | Yes
Assistant engineer (limited) | None | Yes | Yes
Designated duty engineer, (unlimited) (less than 500 GRT) | None | Yes | Yes
Assistant engineer (MODU) | None | Yes | Yes
Assistant engineer (OSV) | None | Yes | Yes
Designated duty engineer, 3,000 kW/4,000 HP ¹ | 12 months | Yes | Yes
Designated duty engineer, 750 kW/1,000 HP ¹ | 24 months | Yes | Yes
* This column provides the minimum additional service required of the seafarer in order to meet the requirements of this section.
** Complete any items in paragraph (a)(3) of this section not previously satisfied.
*** Complete any items in paragraph (a)(4) of this section not previously satisfied.
¹ STCW certificate should be limited to vessels less than 500 GRT.

§ 11.331 [Amended]

21. Amend § 11.331, in Table 1 to § 11.331(E) by revising the entries for “Designated duty engineer, 3,000 kW/4,000 HP” and “Designated duty engineer, 750 kW/1,000 HP” to read as follows:

§ 11.331 Requirements to qualify for an STCW endorsement as chief engineer officer on vessels powered by main propulsion machinery of 750 kW/1,000 HP or more and less than 3,000 kW/4,000 HP propulsion power (management level).

* * * * *

Table 1 to § 11.331(E)—STCW Endorsement as Chief Engineer Officer on Vessels Powered by Main Propulsion Machinery of 750 kW/1,000 HP or More and Less Than 3,000 kW/4,000 HP Propulsion Power
Entry path from national endorsements | Sea service ¹ | Competence— STCW Table A-III/2 ² | Training required by this section ³
* * * * * * *
Designated duty engineer, 3,000 kW/4,000 HP ⁴ | 12 months | Yes | Yes.
Designated duty engineer, 750 kW/1,000 HP ⁴ | 24 months | Yes | Yes.

* * * * *

(4) STCW certificate should be limited to vessels less than 500 GRT.

§ 11.335 [Amended]

22. Amend § 11.335 as follows:

a. In paragraph (a)(3)(iii), after the text “boats other than fast rescue boats” and before the text “; and”, add the text “(PSC) or proficiency in survival craft and rescue boats other than lifeboats and fast rescue boats (PSC-limited)”; and

b. In paragraph (b), after the words “not less than 12 months within the last 60 months” and before the words “must provide evidence of—”, remove the words “and meets the standards of competence specified in Section A-III/6 of the STCW Code is considered by the Coast Guard to be suitably qualified but”.

§ 11.459 [Amended]

23. In § 11.459 heading, after the words “Requirements for national endorsement as master or mate” and before the word “rivers”, remove the word “of” and add, in its place, the word “on”.

§ 11.465 [Amended]

24. In § 11.465, in paragraph (a) introductory text, after the text “in column 1 of Table 1 to” and before the text “(a) of this section”, remove the text “paragaph” and add, in its place, the text “paragraph”.

§ 11.493 [Amended]

25. Amend § 11.493 as follows:

a. In paragraph (b), after the text “required to qualify an applicant for”, remove the text “an endorsement as ”; and

b. In paragraph (c), after the text “If an applicant for”, remove the text “an endorsement as”.

§ 11.495 [Amended]

26. In § 11.495, in paragraph (b), after the words “required to qualify an applicant for” and before the words “as chief mate (OSV)”, remove the words “an endorsement”; and in paragraph (c), after the words “If an applicant for” and before the words “chief mate (OSV)”, remove the words “an endorsements”.

§ 11.555 [Amended]

27. In § 11.555(a)(2), after the words “an approved or accepted” and before the words “engineer (OSV)” add the word “assistant”.

§ 11.821 [Amended]

28. Amend § 11.821 as follows:

a. In paragraph (b), after the words “high-speed craft type-rating” and before the words “for operating vessels”, remove the words “certificate (TRC)” and add, in their place, the words “endorsement (TRE)”; and

b. In paragraphs (c), (d), and (e), remove the acronym “TRC” and add, in its place, the acronym “TRE”, wherever it occurs.

§ 11.903 [Amended]

29. In § 11.903(c)(1), after the words “endorsements, or a license” and before the words “as chief mate of oceans”, remove the words “and STCW endorsement”.

30. In § 11.910, in Table 2 to § 11.910, revise page 7 to read as follows:

§ 11.910 Subjects for deck officer endorsements.

* * * * *

Table 2 to § 11.910—Subjects for Deck Officer Endorsements.

* * * * *

BILLING CODE 9110-04-P

BILLING CODE 9110-04-C

* * * * *

PART 12—REQUIREMENTS FOR RATING ENDORSEMENTS

31. The authority citation for part 12 continues to read as follows:

Authority: 31 U.S.C. 9701; 46 U.S.C. 2101, 2103, 2110, 7301, 7302, 7503, 7505, 7701, and 70105; Department of Homeland Security Delegation No. 0170.1.

§ 12.601 [Amended]

32. In § 12.601(c)(3), after the words “seagoing service that” and before the words “before March 24, 2014,”, remove the words “was completed” and add, in their place, the word “commenced”.

PART 13—CERTIFICATION OF TANKERMEN

33. The authority citation for part 13 continues to read as follows:

Authority: 46 U.S.C. 3703, 7317, 8105, 8703, 9102; Department of Homeland Security Delegation No. 0170.1.

§ 13.121 [Amended]

34. In § 13.121, in Table 2 to § 13.121(E), in the entry for “AuXiliary systems, including:”, revise “AuXiliary” to read “Auxiliary”.

PART 14—SHIPMENT AND DISCHARGE OF MERCHANT MARINERS

35. The authority citation for part 14 continues to read as follows:

Authority: 5 U.S.C. 552; 46 U.S.C. Chapters 103 and 104; 46 U.S.C. 70105.

§ 14.211 [Amended]

36. In § 14.211, after the words “shipping articles are required” and before the words “that a legible copy”, remove the word “mustensure” and add, in their place, the words “must ensure”.

§ 14.213 [Amended]

37. In § 14.213(a), after the words “The master” and before the words “the original throughout”, remove the word “mustkeep” and add, in its place, the words “must keep”.

§ 14.407 [Amended]

38. Amend § 14.407 as follows:

a. In paragraph (b), after the words “the vessel” and before the words “original shipping articles”, remove the word “mustkeep” and add, in its place, the words “must keep”; and

b. In paragraph (e), after the words “another company” and before the words “all original articles”, remove the word “mustsend” and add, in its place, the words “must send”.

PART 15—MANNING REQUIREMENTS

39. The authority citation for part 15 continues to read as follows:

Authority: 46 U.S.C. 2101, 2103, 3306, 3703, 8101, 8102, 8104, 8105, 8301, 8304, 8502, 8503, 8701, 8702, 8901, 8902, 8903, 8904, 8905(b), 8906, 9102, and 8103; and Department of Homeland Security Delegation No. 0170.1.

§ 15.610 [Amended]

40. In § 15.610(b)(2), after the words “one of the four” and before the words “was within the last”, remove the word “reoundtrips” and add, in its place, the word “roundtrips”.

§ 15.815 [Amended]

41. In § 15.815(c), after the words “employment or service as” and before the words “mate onboard an uninspected towing vessel”, remove the word “masteror” and add, in its place, the words “master or”.

PART 24—GENERAL PROVISIONS

42. The authority citation for part 24 continues to read as follows:

Authority: 46 U.S.C. 2113, 3306, 4104, 4302; Pub. L. 103-206; 107 Stat. 2439; E.O. 12234; 45 FR 58801, 3 CFR, 1980 Comp., p. 277; Department of Homeland Security Delegation No. 0170.1.

§ 24.05-1 [Amended]

43. Amend § 24.05-1 as follows:

a. In paragraph (a) introductory paragraph, after the text “in column 5 of table” and before the text “, and is applicable to all”, remove the text “24.05-1(a)” and add, in its place, the text “2.01-7(A)”; and

b. Remove Table 24.05-1(A).

PART 27—TOWING VESSELS

44. The authority citation for part 27 continues to read as follows:

Authority: 46 U.S.C. 3306, 4102 (as amended by Pub. L. 104-324, 110 Stat. 3901); Department of Homeland Security Delegation No. 0170.1.

§ 27.301 [Amended]

45. In § 27.301(b), after the words “where the remote fire pump” and before the words “is located.”, remove the word “contol” and add, in its place, the word “control”.

PART 28—REQUIREMENTS FOR COMMERCIAL FISHING INDUSTRY VESSELS

46. The authority citation for part 28 continues to read as follows:

Authority: 46 U.S.C. 3316, 4502, 4505, 4506, 6104, 10603; Department of Homeland Security Delegation No. 0170.1.

47. In § 28.50, definition of “Currently corrected”, after the words “Notice to Mariners published by the” and before the “.”, remove the words “Defense Mapping Agency Hydrographic/Topographic Center” and add, in their place, the words “National Geospatial-Intelligence Agency”.

§ 28.120 [Amended]

48. In § 28.120, in Table 28.120(C), in the “Survival craft required” column, in the fifth entry, remove the word “bouyant” and add in its place the word “buoyant”. § 28.135 [Amended]

49. In § 28.135, in Table 28.135, under the heading “Markings Required,” revise the column heading “Retroflective material” to read “Retroreflective material”.

§ 28.225 [Amended]

50. In § 28.225(a)(1), after the words “by the National Ocean Service, the National” and before the words “Agency, U.S. Army Corps of Engineers”, remove the words “Imagery and Mapping” and add, in their place, the words “Geospatial-Intelligence”.

§ 28.275 [Amended]

51. In § 28.275(a)(2), after the words “service as master of” and before the words “fishing industry vessels”, remove the word “unispected” and add, in its place, the word “uninspected”.

PART 30—GENERAL PROVISIONS

52. The authority citation for part 30 continues to read as follows:

Authority: 46 U.S.C. 2103, 3306, 3703; Pub. L. 103-206, 107 Stat. 2439; 49 U.S.C. 5103, 5106; Department of Homeland Security Delegation No. 0170.1; Section 30.01-2 also issued under the authority of 44 U.S.C. 3507; Section 30.01-05 also issued under the authority of Sec. 4109, Pub. L. 101-380, 104 Stat. 515.

§ 30.01-5 [Amended]

53. In § 30.01-5(d) introductory paragraph, after the text “indicated in column 2 of table” and before the text “, except as follows:” remove the text “30.01-5(d)” and add, in its place, the text “2.01-7(A)”; and remove Table 30.01-5(D) and its supplementary footnotes.

§ 30.10-27 [Amended]

54. In the heading for Table § 30.10-27, after the words “[In degrees” and before the “]”, remove the word “Farenheit” and add, in its place, the word “Fahrenheit”.

PART 35—OPERATIONS

55. The authority citation for part 35 continues to read as follows:

Authority: 33 U.S.C. 1225, 1231, 1321(j); 46 U.S.C. 3306, 3703, 6101; 49 U.S.C. 5103, 5106; E.O. 12234, 45 FR 58801, 3 CFR, 1980 Comp., p. 277; E.O. 12777, 56 FR 54757, 3 CFR, 1991 Comp., p. 351; Department of Homeland Security Delegation No. 0170.1.

§ 35.10-3 [Amended]

56. In § 35.10-3 introductory paragraph, after the words “six persons and all” and before the words “vessels shall have”, remove the word “sef-propelled” and add, in its place, the word “self-propelled”; and in § 35.10-3(a), after the words “ventilating systems including particulars of the” and before the words “fan controls”, remove the word “maste” and add, in its place, the word “master”.

57. Amend § 35.20-1 by revising paragraphs (a), (b), and (c) to read as follows:

§ 35.20-1 Notice to mariners; aids to navigation—T/OCLB.

(a) Licensed officers are required to acquaint themselves with the latest information published by the Coast Guard and the National Geospatial-Intelligence Agency regarding aids to navigation, and neglect to do so is evidence of neglect of duty. It is desirable that vessels navigating oceans and coastwise and Great Lakes water shall have available in the pilothouse for convenient reference at all times a file of the applicable Notice to Mariners.

(b) Local Notices to Mariners, published by each U.S. Coast Guard District, contain announcements and information on changes in aids to navigation and other marine information affecting the safety of navigation on oceans and coastwise and the Great Lakes. These notices may be obtained free of charge from the U.S. Coast Guard Navigation Center Web site found at http://www.navcen.uscg.gov/?pageName=lnmMain.

(c) Weekly Notices to Mariners (worldwide coverage) are prepared jointly by the National Geospatial-Intelligence Agency, National Ocean Service, and the U.S. Coast Guard. They include changes in aids to navigation and other important navigation safety information in assembled form for U.S. waters. Foreign marine information is also included in these notices. These notices are available without charge from the National Geospatial-Intelligence Agency Web site found at http://msi.nga.mil/NGAPortal/MSI.portal.

* * * * *

§ 35.20-7 [Amended]

58. In § 35.20-7(a), after the words “stability requirements in the” and before the words “trim and stability book”, remove the word “vessels's” and add, in its place, the word “vessel's”.

PART 38—LIQUEFIED FLAMMABLE GASES

59. The authority citation for part 38 continues to read as follows:

Authority: 46 U.S.C. 2103, 3306, 3703; 49 U.S.C. 5101, 5106; E.O. 12234, 45 FR 58801, 3 CFR, 1980 Comp., p. 277; Department of Homeland Security Delegation No. 0170.1.

§ 38.10-15 [Amended]

60. In § 38.10-15(c)(1), after the words “The vapors evaporated by an” and before the words “air temperature of”, remove the word “embient” and add, in its place, the word “ambient”.

§ 38.25-1 [Amended]

61. In § 38.25-1(b), after the words “at a pressure of 1½ times the” and before the “-”, remove the word “tanks's” and add, in its place, the word “tank's”.

PART 42—DOMESTIC AND FOREIGN VOYAGES BY SEA

62. The authority citation for part 42 continues to read as follows:

Authority: 46 U.S.C. 5101-5116; Department of Homeland Security Delegation No. 0170.1; section 42.01-5 also issued under the authority of 44 U.S.C. 3507.

§ 42.20-60 [Amended]

63. In Table 42.20-60(B)(2), after the words “Vessels with” and before the words “and detached bridge”, remove the word “forecasle” and add, in its place, the word “forecastle”.

§ 42.50-15 [Amended]

64. In § 42.50-15(d), after the words “information on the face and” and before the words “sides of Form C1”, remove the word “revese” and add, in its place, the word “reverse”.

PART 44—SPECIAL SERVICE LIMITED DOMESTIC VOYAGES

65. The authority citation for part 44 continues to read as follows:

Authority: 46 U.S.C. 5101-5116; Department of Homeland Security Delegation No. 0170.1.

§ 44.05-35 [Amended]

66. In § 44.05-35(a)(2), after the words “stowage of cargo,” and before the words “etc., are such as to secure”, remove the word “balast” and add, in its place, the word “ballast”.

PART 45—GREAT LAKES LOAD LINES

67. The authority citation for part 45 continues to read as follows:

Authority: 46 U.S.C. 5104, 5108; Department of Homeland Security Delegation No. 0170.1.

§ 45.3 [Amended]

68. In § 45.3(f)(2) definition, after the words “or having topsides of” and before the words “form, the depth for”, remove the word “unsual” and add, in its place, the word “unusual”.

§ 45.117 [Amended]

69. In § 45.117(a), after the words “bulwarks on the weather” and before the words “of freeboard or superstructure”, remove the word “portins” and add, in its place, the word “portions”.

PART 52—POWER BOILERS

70. The authority citation for part 52 continues to read as follows:

Authority: 46 U.S.C. 3306, 3307, 3703; E.O. 12234, 45 FR 58801, 3 CFR, 1980 Comp., p. 277; Department of Homeland Security Delegation No. 0170.1.

§ 52.25-5 [Amended]

71. In § 52.25-5, after the words “through PMB-21 of” and before the words “section I of the ASME”, remove the word “of”.

PART 62—VITAL SYSTEM AUTOMATION

72. The authority citation for part 62 continues to read as follows:

Authority: 46 U.S.C. 3306, 3703, 8105; E.O. 12234, 45 FR 58801, 3 CFR, 1980 Comp., p. 277; Department of Homeland Security Delegation No. 0170.1.

§ 62.20-1 [Amended]

73. In § 62.20-1(a)(5), after the words “A description of” and before the word “features”, remove the word “programable” and add, in its place, the word “programmable”.

§ 62.20-3 [Amended]

74. In § 62.20-3(b)(6), after the words “automation that, in the” and before the words “of the Commandant”, remove the word “judgement” and add, in its place, the word “judgment”.

§ 62.25-20 [Amended]

75. In § 62.25-20(b)(4), after the words “operation, such as boiler” and before the words “control or reversing of”, remove the word “programing” and add, in its place, the word “programming”.

§ 62.25-25 [Amended]

76. In § 62.25-25, in the heading and paragraph (a), remove the word “Programable” and add, in its place, the word “Programmable” wherever it occurs.

§ 62.35-20 [Amended]

77. In § 62.35-20, remove the words “Programing” and “programing” and add, in their place, the words “Programming” and “programming”, respectively, wherever they occur; and in paragraph (d) introductory text, after the words “control must provide a” and before the words “sequence of interlocks”, remove the word “programed” and add, in its place, the word “programmed”.

§ 62.50-20 [Amended]

78. In § 62.50-20(a)(2), after the words “monitoring the plant, initiating” and before the words “control system sequences”, remove the word “programed” and add, in its place, the word “programmed”.

PART 67—DOCUMENTATION OF VESSELS

79. The authority citation for part 67 continues to read as follows:

Authority: 14 U.S.C. 664; 31 U.S.C. 9701; 42 U.S.C. 9118; 46 U.S.C. 2103, 2107, 2110, 12106, 12120, 12122; 46 U.S.C. app. 841a, 876; Department of Homeland Security Delegation No. 0170.1.

§ 67.259 [Amended]

80. In § 67.259(b), after the words “nature of the change being” and before the words “by the instrument”, remove the word “effected” and add, in its place, the word “affected”.

PART 69—MEASUREMENT OF VESSELS

81. The authority citation for part 69 continues to read as follows:

Authority: 46 U.S.C. 2301, 14103; Department of Homeland Security Delegation No. 0170.1.

§ 69.109 [Amended]

82. In § 69.109(i)(4), after the words “which rises or falls from” and before the words “to the wings”, remove the word “certerline” and add, in its place, the word “centerline”.

§ 69.113 [Amended]

83. In § 69.113(b)(2), after the words “Divide the length under” and before the words “(b)(1) of this section”, remove the word “paragaph” and add, in its place, the word “paragraph”.

PART 70—GENERAL PROVISIONS

84. The authority citation for part 70 continues to read as follows:

Authority: 46 U.S.C. 3306, 3703; Pub. L. 103-206, 107 Stat. 2439; 49 U.S.C. 5103, 5106; E.O. 12234, 45 FR 58801, 3 CFR, 1980 Comp., p. 277; Department of Homeland Security Delegation No. 0170.1; Section 70.01-15 also issued under the authority of 44 U.S.C. 3507.

§ 70.05-1 [Amended]

85. Amend § 70.05-1 as follows:

a. In paragraph (a) introductory text, after the text “indicated in Column 3 of table” and before the text “that are 100 gross”, remove the text “70.05-1(a)” and add, in its place, the text “2.01-7(A)”; and

b. Remove Table 70.05-1(A).

§ 70.05-3 [Amended]

86. In § 70.05-3(e), before the words “the other provisions of this section”, remove the words “Not withstanding” and add, in their place, the word “Notwithstanding”.

PART 71—INSPECTION AND CERTIFICATION

87. The authority citation for part 71 continues to read as follows:

Authority: 33 U.S.C. 1321(j); 46 U.S.C. 2113, 3205, 3306, 3307; E.O. 12234, 45 FR 58801, 3 CFR, 1980 Comp., p. 277; E.O. 12777, 56 FR 54757, 3 CFR, 1991 Comp., p. 351; Department of Homeland Security Delegation No. 0170.1.

88. In § 71.25-20, amend the entry for “Cartridge operated (water, antifreeze or loaded stream)” in Table 71.25-20(A)(1) to read as follows:

§ 71.25 Fire detecting and extinguishing equipment.

* * * * *

Table 71.25-20(A)(1)
Type unit | Test
* * * * * * *
Cartridge operated (water, antifreeze or loaded stream) | Examine pressure cartridge and replace if end is punctured or if cartridge is otherwise determined to have leaked or to be in unsuitable condition. Remove liquid. Clean hose and inside of extinguisher thoroughly. Recharge with clean water, solution or antifreeze. Insert charged cartridge.
* * * * * * *

§ 71.50-1 [Amended]

89. In § 71.50-1, in the definition for “Remotely operated vehicle (ROV),” after the words “operate the ROV in an effective” and before the period, remove the word “manor” and add, in its place, the word “manner”.

§ 71.50-27 [Amended]

90. In § 71.50-27(b)(3), after the words “must be present during the” and before the words “portion of the examination”, remove the word “divers” and add, in its place, the word “diver's”.

§ 71.50-35 [Amended]

91. In § 71.50-35(b), after the words “internal structural” and before the words “underwater survey or whenever”, remove the word “examinationor” and add, in its place, the words “examination or”.

PART 72—CONSTRUCTION AND ARRANGEMENT

92. The authority citation for part 72 continues to read as follows:

Authority: 46 U.S.C. 3306; E.O. 12234, 45 FR 58801, 3 CFR, 1980 Comp., p. 277; Department of Homeland Security Delegation No. 0170.1.

§ 72.15-10 [Amended]

93. In § 72.15-10(f), after the words “or bilge on each side.” and before the words “exhaust ducts shall be led to”, remove the word “Simliar” and add, in its place, the word “Similar”.

§ 72.20-5 [Amended]

94. In § 72.20-5, before the words “provided for officers and crew on all vessels”, remove the word “Accomodations” and add, in its place, the word “Accommodations”.

PART 76—FIRE PROTECTION EQUIPMENT

95. The authority citation for part 76 continues to read as follows:

Authority: 46 U.S.C. 3306; E.O. 12234, 45 FR 58801, 3 CFR, 1980 Comp., p. 277; Department of Homeland Security Delegation No. 0170.1.

§ 76.10-10 [Amended]

96. In § 76.10-10 section heading, after the text “Fire station hydrants, hose and nozzles”, remove the text “-T/ALL”.

§ 76.15-20 [Amended]

97. In § 76.15-20(g), after the words “with flexible or bent” and before the words “tubes may be inclined”, remove the word “syphon” and add, in its place, the word “siphon”.

PART 77—VESSEL CONTROL AND MISCELLANEOUS SYSTEMS AND EQUIPMENT

98. The authority citation for part 77 continues to read as follows:

Authority: 46 U.S.C. 3306; E.O. 12234, 45 FR 58801, 3 CFR, 1980 Comp., p. 277; Department of Homeland Security Delegation No. 0170.1.

§ 77.35-5 [Amended]

99. In § 77.35-5(d), after the words “shall be either inherently corrosion” and before the words “or made so by galvanizing”, remove the word “resistent,” and add, in its place, the word “resistant,”.

PART 78—OPERATIONS

100. The authority citation for part 78 continues to read as follows:

Authority: 33 U.S.C. 1321(j); 46 U.S.C. 2103, 3306, 6101; 49 U.S.C. 5103, 5106; E.O. 12234, 45 FR 58801, 3 CFR, 1980 Comp., p. 277; E.O. 12777, 56 FR 54757, 3 CFR, 1991 Comp., p. 351; Department of Homeland Security Delegation No. 0170.1.

101. Revise § 78.05-1 to read as follows:

§ 78.05-1 Duty of officers.

(a) Licensed deck officers are required to acquaint themselves with the latest information published by the Coast Guard and the National Geospatial-Intelligence Agency regarding aids to navigation. Neglect to do so is evidence of neglect of duty. It is desirable that all vessels have available in the pilothouse for convenient reference at all times a file of the applicable Notice to Mariners.

(b) Local Notices to Mariners, published by each U.S. Coast Guard District, contain announcements and information on changes in aids to navigation and other marine information affecting the safety of navigation on oceans and coastwise and the Great Lakes. These notices may be obtained free of charge from the U.S. Coast Guard Navigation Center Web site found at http://www.navcen.uscg.gov/?pageName=lnmMain.

(c) Weekly Notices to Mariners (Worldwide coverage) are prepared jointly by the National Geospatial-Intelligence Agency, National Ocean Service, and the U.S. Coast Guard. They include changes in aids to navigation and other important navigation safety information in assembled form for U.S. waters. Foreign marine information is also included in these notices. These notices are available without charge from the National Geospatial-Intelligence Agency Web site found at http://msi.nga.mil/NGAPortal/MSI.portal.

§ 78.10-1 [Amended]

102. In § 78.10-1, after the words “United States Coast Guard, United States Navy,” and before the words “Agency, National Ocean Service,”, remove the words “Imagery and Mapping” and add, in their place, the words “Geospatial-Intelligence”.

§ 78.36-20 [Amended]

103. In § 78.36-20(a), after the words “shall be destroyed or” and before the words “in the presence”, remove the word “multilated” and add, in its place, the word “mutilated”.

§ 78.37-5 [Amended]

104. In § 78.37-5(h), after the words “Loading doors. Where” and before the words “every closing and any opening”, remove the word “appliicable,” and add, in its place, the word “applicable,”.

§ 78.47-37 [Amended]

105. In § 78.47-37(a), after the text ““W. T. D. 1,” “2,” “3,” etc. If a” and before the text “or similar notice is used”, remove the text “stencilled” and add, in its place, the text “stenciled”.

§ 78.50-10 [Amended]

106. In § 78.50-10(c), after the words “datum line from which the draft” and before the words “be taken shall be obtained by”, remove the word “shal” and add, in its place, the word “shall”.

PART 90—GENERAL PROVISIONS

107. The authority citation for part 90 continues to read as follows:

Authority: 46 U.S.C. 3306, 3703; Pub. L. 103-206, 107 Stat. 2439; 49 U.S.C. 5103, 5106; E.O. 12234, 45 FR 58801, 3 CFR, 1980 Comp., p. 277; Department of Homeland Security Delegation No. 0170.1.

§ 90.05-1 [Amended]

108. In § 90.05-1, in paragraph (a) introductory text, after the text “indicated in Column 4 of Table” and before the text “and to all such”, remove the text “90.05-1(a)” and add, in its place, the text “2.01-7(A)”; and remove Table 90.05-1(A).

§ 90.10-20 [Amended]

109. In § 90.10-20, after the words “moveable legs capable of raising” and before the words “hull above the surface”, remove the word “it's” and add, in its place, the word “its”.

PART 92—CONSTRUCTION AND ARRANGEMENT

110. The authority citation for part 92 continues to read as follows:

Authority: 46 U.S.C. 3306; E.O. 12234, 45 FR 58801, 3 CFR, 1980 Comp., p. 277; Department of Homeland Security Delegation No. 0170.1.

§ 92.03-1 [Amended]

111. In § 92.03-1 paragraphs (b)(3) and (4), remove the word “fowad” and add, in its place, the word “forward” wherever it occurs.

PART 95—FIRE PROTECTION EQUIPMENT

112. The authority citation for part 95 continues to read as follows:

Authority: 46 U.S.C. 3306; E.O. 12234, 45 FR 58801, 3 CFR, 1980 Comp., p. 277; Department of Homeland Security Delegation No. 0170.1.

§ 95.50-5 [Amended]

113. In § 95.50-5, in paragraph (c) introductory text, after the words “suitable hose and nozzle or” and before the words “means so that all portions”, remove the word “otherpracticable” and add, in its place, the words “other practicable”.

PART 97—OPERATIONS

114. The authority citation for part 97 continues to read as follows:

Authority: 33 U.S.C. 1321(j); 46 U.S.C. 2103, 3306, 5111, 6101; 49 U.S.C. 5103, 5106; E.O. 12234, 45 FR 58801, 3 CFR, 1980 Comp., p. 277; E.O. 12777, 56 FR 54757; 3 CFR, 1991 Comp., p. 351; Department of Homeland Security Delegation No. 0170.1.

§ 97.01-2 [Amended]

115. In § 97.01-2(a), after the text “Washington, DC 20593-7509 or” and before the text “National Archives and Records Administration (NARA).”, remove the text “contactthe” and add, in its place, the text “contact the”.

116. Revise § 97.05-1 to read as follows:

§ 97.05-1 Duty of officers

(a) Licensed deck officers are required to acquaint themselves with the latest information published by the Coast Guard and the National Geospatial-Intelligence Agency regarding aids to navigation. Neglect to do so is evidence of neglect of duty. It is desirable that vessels other than motorboats shall have available in the pilothouse for convenient reference at all times a file of the applicable Notice to Mariners.

(b) Local Notices to Mariners, published by each U.S. Coast Guard District, contain announcements and information on changes in aids to navigation and other marine information affecting the safety of navigation on oceans and coastwise and the Great Lakes. These notices may be obtained free of charge from the U.S. Coast Guard Navigation Center Web site found at http://www.navcen.uscg.gov/?pageName=lnmMain.

(c) Weekly Notices to Mariners (Worldwide coverage) are prepared jointly by the National Geospatial-Intelligence Agency, National Ocean Service, and the U.S. Coast Guard. They include changes in aids to navigation and other important navigation safety information in assembled form for U.S. waters. Foreign marine information is also included in these notices. These notices are available without charge from the National Geospatial-Intelligence Agency Web site found at http://msi.nga.mil/NGAPortal/MSI.portal.

§ 97.10-5 [Amended]

117. In § 97.10-5, after the words “United States Navy, National” and before the words “Agency, National Ocean Service,”, remove the words “Imagery and Mapping” and add, in their place, the words “Geospatial-Intelligence”.

PART 105—COMMERCIAL FISHING VESSELS DISPENSING PETROLEUM PRODUCTS

118. The authority citation for part 105 continues to read as follows:

Authority: 33 U.S.C. 1321(j); 46 U.S.C. 3306, 3703, 4502; 49 U.S.C. App. 1804; E.O. 11735, 38 FR 21243, 3 CFR, 1971-1975 Comp., p. 793; Department of Homeland Security Delegation No. 0170.1.

§ 105.20-3 [Amended]

119. In § 105.20-3, in Table 105.20-3(A)(1), in footnote 4, after the words “common metals. Avoid” and before the words “contact with tank body”, remove the word “dissimila-metal” and add, in its place, the word “dissimilar-metal”.

§ 105.20-5 [Amended]

120. In § 105.20-5(c), before the words “or aluminum alloy valves and fittings”, remove the word “Aluminium” and add, in its place, the word “Aluminum”.

PART 109—OPERATIONS

121. The authority citation for part 109 continues to read as follows:

Authority: 43 U.S.C. 1333; 46 U.S.C. 3306, 6101, 10104; Department of Homeland Security Delegation No. 0170.1.

§ 109.301 [Amended]

122. In § 109.301(g)(2), after the words “serviced in accordance with the” and before the words “manual and meet the requirements”, remove the word “owners” and add, in its place, the word “owner's”.

PART 111—ELECTRIC SYSTEMS—GENERAL REQUIREMENTS

123. The authority citation for part 111 continues to read as follows:

Authority: 46 U.S.C. 3306, 3703; Department of Homeland Security Delegation No. 0170.1.

§ 111.10-1 [Amended]

124. In § 111.10-1(a), before the words “service loads mean electrical equipment for all” remove the word “Ships's” and add, in its place, the word “Ship's”.

PART 114—GENERAL PROVISIONS

125. The authority citation for part 114 continues to read as follows:

Authority: 46 U.S.C. 2103, 3306, 3703; Pub. L. 103-206, 107 Stat. 2439; 49 U.S.C. App. 1804; Department of Homeland Security Delegation No. 0170.1; § 114.900 also issued under 44 U.S.C. 3507.

§ 114.400 [Amended]

126. In § 114.400, in the definition of “Remotely Operated Vehicle (ROV),” after the words “operate the ROV in an effective” and before the words “The team must also have”, remove the word “manor.” and add, in its place, the word “manner.”.

PART 115—INSPECTION AND CERTIFICATION

127. The authority citation for part 115 continues to read as follows:

Authority: 33 U.S.C. 1321(j); 46 U.S.C. 2103, 3205, 3306, 3307; 49 U.S.C. App. 1804; E.O. 11735, 38 FR 21243, 3 CFR, 1971-1975 Comp., p. 277; Department of Homeland Security Delegation No. 0170.1.

§ 115.114 [Amended]

128. In § 115.114(b)(1), after the text “without the consent of the” and before the text “OCMI;”, remove the text “congnizant” and add, in its place, the text “cognizant”.

§ 115.801 [Amended]

129. In § 115.801(a), after the words “a serious safety hazard to the vessel or” and before the words “passengers or crew”, remove the word “it's” and add, in its place, the word “its”.

PART 117—LIFESAVING EQUIPMENT AND ARRANGEMENTS

130. The authority citation for part 117 continues to read as follows:

Authority: 46 U.S.C. 2103, 3306; E.O. 12234, 45 FR 58801, 3 CFR, 1980 Comp., p. 277; Department of Homeland Security Delegation No. 0170.1.

§ 117.70 [Amended]

131. In § 117.70(a)(2), after the text “(65 feet), must carry a” and before the text “of one life buoy”, remove the text “minumum” and add, in its place, the text “minimum”.

PART 119—MACHINERY INSTALLATION

132. The authority citation for part 119 continues to read as follows:

Authority: 46 U.S.C. 2103, 3306; E.O. 12234, 45 FR 58801, 3 CFR, 1980 Comp., p. 277; Department of Homeland Security Delegation No. 0170.1.

§ 119.530 [Amended]

133. In § 119.530(a)(1), after the words “deepest load waterline, such as a” and before the semicolon, remove the word “lazerette” and add, in its place, the word “lazarette”.

PART 121—VESSEL CONTROL AND MISCELLANEOUS SYSTEMS AND EQUIPMENT

134. The authority citation for part 121 continues to read as follows:

Authority: 46 U.S.C. 2103, 3306; E.O. 12234, 45 FR 58801, 3 CFR, 1980 Comp., p. 277; Department of Homeland Security Delegation No. 0170.1.

§ 121.240 [Amended]

135. In § 121.240(e)(1), after the words “CNG containers within the” and before the words “area, machinery spaces, bilges”, remove the word “accomodation” and add, in its place, the word “accommodation”.

PART 122—OPERATIONS

136. The authority citation for part 122 continues to read as follows:

Authority: 46 U.S.C. 2103, 3306, 6101; E.O. 12234, 45 FR 58801, 3 CFR, 1980 Comp., p. 277; Department of Homeland Security Delegation No. 0170.1.

§ 122.304 [Amended]

137. In § 122.304(a)(7), remove the word “Vessels's” and add, in its place, the word “Vessel's”.

§ 122.520 [Amended]

138. In § 122.520(g)(2), after the word “General” and before the words “of the drill scenario”, remove the word “discription” and add, in its place, the word “description”.

§ 122.524 [Amended]

139. In § 122.524(e)(2), after the word “General” and before the words “of the drill scenario”, remove the word “discription” and add, in its place, the word “description”.

§ 122.612 [Amended]

140. In § 122.612(f), after the words “sprinkler system must be” and before the words “marked in clearly legible letters”, remove the word “conspicously” and add, in its place, the word “conspicuously”.

§ 122.728 [Amended]

141. In § 122.728(a), after the words “other than an EPIRB in an” and before the words “liferaft, must be tested”, remove the word “inflable” and add, in its place, the word “inflatable”.

PART 131—OPERATIONS

142. The authority citation for part 131 continues to read as follows:

Authority: 33 U.S.C. 1321(j); 46 U.S.C. 3306, 6101, 10104; E.O. 12234, 3 CFR, 1980 Comp., p. 277; E.O. 12777, 3 CFR, 1991 Comp., p. 351; Department of Homeland Security Delegation No. 0170.1.

§ 131.590 [Amended]

143. In § 131.590(b), after the words “at least once each 12 months,” and before the words “the performance of the tests”, remove the word “nsure” and add, in its place, the word “ensure”.

§ 131.910 [Amended]

144. In § 131.910, after the words “the Coast Guard and the National” and before the words “Agency regarding aids to navigation”, remove the words “Imagery and Mapping” and add, in their place, the words “Geospatial-Intelligence”.

PART 150—COMPATIBILITY OF CARGOES

145. The authority citation for part 150 continues to read as follows:

Authority: 46 U.S.C. 3306, 3703; Department of Homeland Security Delegation No. 0170.1. Section 150.105 issued under 44 U.S.C. 3507; Department of Homeland Security Delegation No. 0170.1.

Appendix III to Part 150 [Amended]

146. In Appendix III to Part 150, Step 2, paragraph 3, last sentence, after the words “an inert material such as a” and before the word “hydrocarbon.”, remove the word “flourinated” and add, in its place, the word “fluorinated”.

PART 151—BARGES CARRYING BULK LIQUID HAZARDOUS MATERIAL CARGOES

147. The authority citation for part 151 continues to read as follows:

Authority: 33 U.S.C. 1903; 46 U.S.C. 3703; Department of Homeland Security Delegation No. 0170.1.

§ 151.04-5 [Amended]

148. In § 151.04-5(h), after the word “Pressure” and before the words “relief valves shall be examined”, remove the word “vaccum” and add, in its place, the word “vacuum”.

§ 151.50-23 [Amended]

149. In § 151.50-23(d), after the words “at least to the height of the” and before the words “disk if such is installed.”, remove the word “flangible” and add, in its place, the word “frangible”.

§ 151.50-31 [Amended]

150. In § 151.50-31(d), after the words “All valves, flanges, fittings and” and before the words “equipment shall be of”, remove the word “accessary” and add, in its place, the word “accessory”.

§ 151.50-79 [Amended]

151. In § 151.50-79(b)(1), after the text “above 60 °C (140 °F) and 1.72 MPa” and before the text “(250 psig) during its operations”, remove the text “guage” and add, in its place, the text “gauge”.

§ 151.50-84 [Amended]

152. In § 151.50-84(e)(1), after the words “one cargo tank at a time” and before the words “each tank is filled from”, remove the word “unles” and add, in its place, the word “unless”.

PART 153—SHIPS CARRYING BULK LIQUID, LIQUEFIED GAS, OR COMPRESSED GAS HAZARDOUS MATERIALS

153. The authority citation for part 153 continues to read as follows:

Authority: 46 U.S.C. 3703; Department of Homeland Security Delegation No. 0170.1. Section 153.40 issued under 49 U.S.C. 5103. Sections 153.470 through 153.491, 153.1100 through 153.1132, and 153.1600 through 153.1608 also issued under 33 U.S.C. 1903(b).

§ 153.240 [Amended]

154. In § 153.240(b), after the words “In an atmosphere whose” and before the words “is less than the temperature”, remove the word “dewpoint” and add, in its place, the words “dew point”.

§ 153.330 [Amended]

155. In § 153.330(a), after the words “pump-room must open on the” and before the period, remove the word “weatheredeck” and add, in its place, the word “weatherdeck”.

§ 153.530 [Amended]

156. In § 153.530(b), after the words “steel and Teflon or similar” and before the word “polymer.”, remove the word “flourinated” and add, in its place, the word “fluorinated”.

§ 153.940 [Amended]

157. In § 153.940(b)(2), after the words “Working pressure” and before the words “in paragraph (d)”, remove the word “discribed” and add, in its place, the word “described”.

§ 153.1052 [Amended]

158. In § 153.1052, after the words “hydrochloric acid, or phosphoric acid” and before the words “specific authorization from”, remove the words “with out” and add, in their place, the word “without”.

§ 153.1119 [Amended]

159. In § 153.1119(c)(1), after the text “Commandant (CG-ENG) (tel num”, and before the text “if the prewash port is a foreign port”, remove the text “; 202-372-1425” and add, in its place, the text “: 202-372-1420; email: HazmatStandards@uscg.mil”.

§ 153.1602 [Amended]

160. In § 153.1602 heading, after the words “for determining the” and before the word “quantity”, remove the word “strippinq” and add, in its place, the word “stripping”.

PART 154—SAFETY STANDARDS FOR SELF-PROPELLED VESSELS CARRYING BULK LIQUEFIED GASES

161. The authority citation for part 154 continues to read as follows:

Authority: 46 U.S.C. 3703, 9101; Department of Homeland Security Delegation No. 0170.1.

§ 154.406 [Amended]

162. In § 154.406(a)(4), after the text “the design temperature is colder” and before the text “−55°C (−67°F) or”, remove the text “that” and add, in its place, the text “than”.

§ 154.438 [Amended]

163. In § 154.438(a), after the text “type A are mostly flat” and before the text “Po must not exceed 69 kPa gauge”, remove the text “surfaces,the” and add, in its place, the text “surfaces, the”.

§ 154.453 [Amended]

164. In § 154.453, after the text “§ 154.451, and 154.452 and” and before the text “be redesigned to meet those standards”, remove the text “can not” and add, in its place, the text “cannot”.

§ 154.470 [Amended]

165. In § 154.470(c), after the words “must have supports with an” and before the words “system that withstands”, remove the word “antiflotation” and add, in its place, the word “antifloatation”.

§ 154.522 [Amended]

166. In § 154.522(a)(2), after the word “Liquid” and before the words “discharge to the vent piping”, remove the words “can not” and add, in their place, the word “cannot”.

§ 154.902 [Amended]

167. In § 154.902, in paragraphs (c)(2) and (d), remove the word “dewpoint” and add, in its place, the words “dew point”.

§ 154.903 [Amended]

168. In § 154.903(b), after the words “The boiling point and” and before the words “at atmospheric pressure of”, remove the word “dewpoint” and add, in its place, the words “dew point”.

§ 154.1715 [Amended]

169. In § 154.1715(b), after the text “moisture content of air with a” and before the text “of −45°C (−49°F)”, remove the word “dewpoint” and add, in its place, the words “dew point”.

§ 154.1725 [Amended]

170. In § 154.1725(a)(4), after the words “spirally wound stainless steel with” and before the words “or other material specially approved”, remove the word “teflon” and add, in its place, the word “Teflon”.

PART 159—APPROVAL OF EQUIPMENT AND MATERIALS

171. The authority citation for part 159 continues to read as follows:

Authority: 46 U.S.C. 3306, 3703; 49 CFR 1.45, 1.46; Section 159.001-9 also issued under the authority of 44 U.S.C. 3507.

§ 159.005-9 [Amended]

172. In § 159.005-9(a)(5)(ii), after the words “sets of specifications of the” and before the words “as inspected or tested”, remove the word “materisl” and add, in its place, the word “material”.

PART 160—LIFESAVING EQUIPMENT

173. The authority citation for part 160 continues to read as follows:

Authority: 46 U.S.C. 2103, 3306, 3703 and 4302; E.O. 12234; 45 FR 58801; 3 CFR, 1980 Comp., p. 277; 49 CFR 1.46; and Department of Homeland Security Delegation No. 0170.1.

§ 160.010-7 [Amended]

174. In § 160.010-7(f), after the text “145 N (32 lb.) per person capacity of the” and before the text “apparatus or 180 N (40 lb.)”, remove the text “buouyant” and add, in its place, the text “buoyant”.

§ 160.021-4 [Amended]

175. In § 160.021-4:

a. In paragraph (a), after the words “of at least 100 signals” and before the words “which samples must be taken”, remove the word “form” and add, in its place, the word “from”;

b. In paragraph (b)(1), after the words “production line or on a previously” and before the words “production line”, remove the word “discountinued” and add, in its place, the word “discontinued”; and

c. In paragraph (d)(8)(iii), after the words “must remain in position until” and before the words “has cooled”, remove the word “is” and add, in its place, the word “it”.

§ 160.024-4 [Amended]

176. In § 160.024-4(c)(2)(iii), after the words “known height, such as a tower or” and before the words “or by triangulation from two”, remove the word “ballon,” and add, in its place, the word “balloon,”.

§ 160.031-6 [Amended]

177. In § 160.031-6(a), after the words “recessed in it a brass or other” and before the words “plate showing legible maintenance”, remove the word “corrosion-restistant” and add, in its place, the word “corrosion-resistant”.

§ 160.036-4 [Amended]

178. In § 160.036-4(c)(2)(i), after the words “Conditioning of test specimens—water” and before the words “Immerse specimen horizontally”, remove the word “resistence.” and add, in its place, the word “resistant.”.

§ 160.040-3 [Amended]

179. In § 160.040-3(a), after the words “purpose intended, and shall conform” and before the words “this subpart and to the specifications”, remove the word “ot” and add, in its place, the word “to”.

§ 160.040-4 [Amended]

180. In § 160.040-4(c), after the text “minimum diameter with a minimum breaking” and before the text “of at least 2,250 N (500 lb.),”, remove the text “strenght” and add, in its place, the text “strength”.

§ 160.041-4 [Amended]

181. In § 160.041-4(a), after the words “Each package shall be” and before the words “in a jacket of tough, transparent material”, remove the word “inclosed” and add, in its place, the word “enclosed”.

§ 160.048-5 [Amended]

182. In § 160.048-5(e), after the words “In order to measure the actual” and before the words “provided by the pads”, remove the word “buoyance” and add, in its place, the word “buoyancy”.

§ 160.052-7 [Amended]

183. In § 160.052-7(e)(1), after the words “buoyancy of the inserts. To” and before the words “the buoyancy of the inserts”, remove the word “obtan” and add, in its place, the word “obtain”.

§ 160.055-2 [Amended]

184. In § 160.055-2(c)(2), after the text “Model,¹ child (for persons” and before the text “than 90 pounds).”, remove the text “weighless” and add, in its place, the text “weighing less”.

§ 160.066-13 [Amended]

185. In § 160.066-13(b)(2), after the words “If for any reason it is not” and before the words “to operate the oven continuously”, remove the word “possbie” and add, in its place, the word “possible”.

§ 160.066-15 [Amended]

186. In § 160.066-15(c), after the text “must be performed at least once every twelve” and before the text “at least once every 10 lots”, remove the text “months,or” and add, in its place, the text “months, or”.

§ 160.171-9 [Amended]

187. § 160.171-9(g)(2), after the word “Galvanically” and before the words “with each other metal part”, remove the word “compatable” and add, in its place, the word “compatible”.

§ 160.171-17 [Amended]

188. Amend § 160.171-17 as follows:

a. In paragraph (c)(8), after the words “wearing the suit in water” and before the words “any auxiliary means of buoyancy”, remove the word “witiout” and add, in its place, the word “without”; and

b. In paragraph (f)(4), after the words “Alternatively, the suits may be” and before the words “in the chamber”, remove the word “upacked” and add, in its place, the word “unpacked”.

§ 160.176-5 [Amended]

189. In § 160.176-5(d)(2), after the words “by design or construction the lifejacket” and before the words “fail the test.”, remove the words “can not” and add, in their place, the word “cannot”.

§ 160.176-15 [Amended]

190. In § 160.176-15(h)(9), after the words “for a minimum of 30 minutes, and” and before the words “removed and immediately placed”, remove the word “them” and add, in its place, the word “then”; and in § 160.176-15(j), after the words “Each final lot examination and” and before the words “must show-”, remove the word “inspectin” and add, in its place, the word “inspection”.

PART 161—ELECTRICAL EQUIPMENT

191. The authority citation for part 161 continues to read as follows:

Authority: 46 U.S.C. 3306, 3703, 4302; E.O. 12234, 45 FR 58801, 3 CFR, 1980 Comp., p. 277; Department of Homeland Security Delegation No. 0170.1.

§ 161.012-1 [Amended]

192. In § 161.012-1(a), after the words “Coast Guard approved life preservers,” and before the words “vests, and other personal”, remove the word “bouyant” and add, in its place, the word “buoyant”.

§ 161.012-17 [Amended]

193. In § 161.012-17(c)(2), after the words “Not require penetration of the” and before the words “material of the PFD.”, remove the word “bouyant” and add, in its place, the word “buoyant”.

PART 162—ENGINEERING EQUIPMENT

194. The authority citation for part 162 continues to read as follows:

Authority: 33 U.S.C. 1321(j), 1903; 46 U.S.C. 3306, 3703, 4104, 4302; E.O. 12234, 45 FR 58801, 3 CFR, 1980 Comp., p. 277; E.O. 12777, 56 FR 54757, 3 CFR, 1991 Comp., p. 351; Department of Homeland Security Delegation No. 0170.1.

§ 162.018-5 [Amended]

195. In § 162.018-5(b), after the words “Safety relief valves having” and before the words “blow-down construction”, remove the word “adjustible” and add, in its place, the word “adjustable”.

§ 162.039-3 [Amended]

196. Amend § 162.039-3 as follows:

a. In paragraph (b), after the words “additional source of extinguishing agent or” and before the words “energy for its operation;”, remove the word “expellent” and add, in its place, the word “expellant”; and

b. In paragraph (c), after the words “similar purposes, shall be” and before the words “or shall be protected by”, remove the word “corrsion-resistant” and add, in its place, the word “corrosion-resistant”.

PART 163—CONSTRUCTION

197. The authority citation for part 163 continues to read as follows:

Authority: 46 U.S.C. 3306, 3703, 5115; E.O. 12234, 45 FR 58801, 3 CFR, 1980 Comp., p. 277; 49 CFR 1.46.

§ 163.002-13 [Amended]

198. In § 163.002-13(t), after the words “capable of supporting 2.2 times the” and before the words “load with the cables”, remove the word “workig” and add, in its place, the word “working”.

§ 163.003-27 [Amended]

199. In § 163.003-27(c), after the words “if each ladder in the lot is less” and before the words “3 m long, a ladder of the longest length”, remove the word “then” and add, in its place, the word “than”.

PART 164—MATERIALS

200. The authority citation for part 164 continues to read as follows:

Authority: 46 U.S.C. 3306, 3703, 4302; E.O. 12234, 45 FR 58801, 3 CFR, 1980 Comp., p. 277; 49 CFR 1.46.

§ 164.003-3 [Amended]

201. In § 164.003-3(c), after the words “kapok shall not be used in” and before the words “products inspected by the”, remove the word “lifesaying” and add, in its place, the word “lifesaving”.

§ 164.008-7 [Amended]

202. In § 164.008-7(a)(7), after the words “installation methods and indicating” and before the words “if any.”, remove the word “limtations,” and add, in its place, the word “limitations,”.

§ 164.015-4 [Amended]

203. In § 164.015-4, in paragraph (g)(1), remove the word “bunsen” and add, in its place, the word “Bunsen” wherever it occurs; and in paragraph (j), after the words “bent 180° around a ½″ diameter steel” and before the words “within 5 seconds at the test temperature.”, remove the word “mandril” and add, in its place, the word “mandrel”.

PART 167—PUBLIC NAUTICAL SCHOOL SHIPS

204. The authority citation for part 167 continues to read as follows:

Authority: 46 U.S.C. 3306, 3307, 6101, 8105; E.O. 12234, 45 FR 58801, 3 CFR, 1980 Comp., p. 277; Department of Homeland Security Delegation No. 0170.1.

§ 167.20-10 [Amended]

205. In § 167.20-10(a), after the words “arrangements will possibly permit, all” and before the words “where persons may be quartered,”, remove the word “inclosures” and add, in its place, the word “enclosures”.

§ 167.45-75 [Amended]

206. In § 167.45-75, after the words “emergency fuel tanks containing gasoline,” and before the words “or naphtha.”, remove the word “benzine,” and add, in its place, the word “benzene,”.

§ 167.60-1 [Amended]

207. In § 167.60-1(a), after the words “certificate of inspection with the following” and before the words ““Nautical School Ship” in lieu”, remove the word “indorsement:” and add, in its place, the word “endorsement:”.

208. Amend § 167.65-45 by revising paragraphs (a), (b), and (c) to read as follows:

§ 167.65-45 Notice to mariners; aids to navigation.

(a) Officers are required to acquaint themselves with the latest information published by the Coast Guard and the National Geospatial-Intelligence Agency regarding aids to navigation, and neglect to do so is evidence of neglect of duty. It is desirable that nautical school ships navigating oceans and coastwise and Great Lakes waters shall have available in the pilothouse for convenient reference at all times a file of the applicable Notice to Mariners.

(b) Local Notices to Mariners, published by each U.S. Coast Guard District, contain announcements and information on changes in aids to navigation and other marine information affecting the safety of navigation on oceans and coastwise and the Great Lakes. These notices may be obtained free of charge from the U.S. Coast Guard Navigation Center Web site found at http://www.navcen.uscg.gov/?pageName=lnmMain.

(c) Weekly Notices to Mariners (Worldwide coverage) are prepared jointly by the National Geospatial-Intelligence Agency, National Ocean Service, and the U.S. Coast Guard. They include changes in aids to navigation and other important navigation safety information in assembled form for U.S. waters. Foreign marine information is also included in these notices. These notices are available without charge from the National Geospatial-Intelligence Agency Web site found at http://msi.nga.mil/NGAPortal/MSI.portal.

* * * * *

PART 169—SAILING SCHOOL VESSELS

209. The authority citation for part 169 continues to read as follows:

Authority: 33 U.S.C. 1321(j); 46 U.S.C. 3306, 6101; Pub. L. 103-206, 107 Stat. 2439; E.O. 11735, 38 FR 21243, 3 CFR, 1971-1975 Comp., p. 793; Department of Homeland Security Delegation No. 0170.1; § 169.117 also issued under the authority of 44 U.S.C. 3507.

§ 169.313 [Amended]

210. In § 169.313(d)(3), after the words “The scuttle is located where it” and before the words “interfered with; and”, remove the words “can not” and add, in their place, the word “cannot”.

§ 169.567 [Amended]

211. In § 169.567(g), after the words “For units that” and before the words “be readily recharged on the vessel,”, remove the word “can not” and add, in their place, the word “cannot”.

§ 169.609 [Amended]

212. Amend § 169.609 as follows:

a. In the introductory text, after the words “exhaust installations and associated cooling” and before the words “must be built in accordance with”, remove the word “sytems” and add, in its place, the word “systems”; and

b. In paragraph (b), after the words “water from rough seas, and are” and before the words “of corrosion resistant material at the hull”, remove the word “constucted” and add, in its place, the word “constructed”.

§ 169.667 [Amended]

213. In § 169.667(a), after the words “switchboard must be in as dry a location as” and before the words “accessible, protected from inadvertent entry,”, remove the word “praticable,” and add, in its place, the word “practicable”.

§ 169.684 [Amended]

214. In § 169.684(d), after the words “Each manually started” and before the words “duty motor, rated at one horsepower”, remove the word “continous” and add, in its place, the word “continuous”.

§ 169.837 [Amended]

215. In § 169.837(b)(3), after the words “lifefloat has been cleaned and” and before the words “overhauled once every twelve months.”, remove the word “thorughly” and add, in its place, the word “thoroughly”.

PART 171—SPECIAL RULES PERTAINING TO VESSELS CARRYING PASSENGERS

216. The authority citation for part 171 continues to read as follows:

Authority: 46 U.S.C. 2103, 3306; E.O. 12234, 45 FR 58801, 3 CFR, 1980 Comp., p. 277; Department of Homeland Security Delegation No. 0170.1.

§ 171.066 [Amended]

217. In § 171.066(d), after the words “completely enclosed in steel” and before the words “and is not a crew or passenger space”, remove the word “buldheads” and add, in its place, the word “bulkheads”.

218. In § 171.070, amend the entry for “801 to 1000” in Table 171.070(A) to read as follows:

§ 171.070 Subdivision requirements—Type II.

* * * * *

Table 171.070(a)—Standard of Flooding
Passengers carried | Part of vessel | Standard of flooding (compartments)
* * * * * * *
801 to 1000 | All of the vessel forward of the first MTWB that is aft of a point 60% of the vessel's LBP aft of the forward perpendicular | 2
* * * * * * *

* * * * *

§ 171.072 [Amended]

219. In § 171.072 introductory text, after the words “When doing” and before the words “to show compliance with”, remove the word “calcualtions” and add, in its place, the word “calculations”.

§ 171.080 [Amended]

220. In § 171.080(h)(2), after the words “in other than ocean service must meet the” and before the colon, remove the word “follmwing” and add, in its place, the word “following”.

§ 171.100 [Amended]

221. In § 171.100(d), after the words “If a vessel has more” and before the words “two shaft tunnels, only two doors”, remove the word “then” and add, in its place, the word “than”.

PART 172—SPECIAL RULES PERTAINING TO BULK CARGOES

222. The authority citation for part 172 continues to read as follows:

Authority: 46 U.S.C. 3306, 3703, 5115; E.O. 12234, 45 FR 58801, 3 CFR, 1980 Comp., p. 277; Department of Homeland Security Delegation No. 0170.1.

§ 172.065 [Amended]

223. In § 172.065, in paragraph (d) introductory text, after the text “longer than 738 feet (225” and before the text “) in length, design calculations must”, remove the text “metes” and add, in its place, the text “meters”; and in paragraph (d)(3)(iii), after the text “a step for the purpose of this” and before the period, remove the text “regulaton” and add, in its place, the text “regulation”.

PART 174—SPECIAL RULES PERTAINING TO SPECIFIC VESSEL TYPES

224. The authority citation for part 174 continues to read as follows:

Authority: 42 U.S.C. 9118, 9119, 9153; 43 U.S.C. 1333; 46 U.S.C. 3306, 3703; E.O. 12234, 45 FR 58801, 3 CFR, 1980 Comp., p. 277; Department of Homeland Security Delegation No. 0170.1.

§ 174.055 [Amended]

225. In § 174.055(b)(4), after the text “A=projected area in square feet (” and before the text “meters) of an exposed surface”, remove the text “squrae” and add, in its place, the text “square”.

PART 175—GENERAL PROVISIONS

226. The authority citation for part 175 continues to read as follows:

Authority: 46 U.S.C. 2103, 3205, 3306, 3703; Pub. L. 103-206, 107 Stat. 2439; 49 U.S.C. App. 1804; Department of Homeland Security Delegation No. 0170.1; § 175.900 also issued under 44 U.S.C. 3507.

§ 175.122 [Amended]

227. In § 175.122, after the words “assignment, certification, and marking under” and before the words “E (Load Lines)”, remove the word “suchapter” and add, in its place, the word “Subchapter”.

PART 176—INSPECTION AND CERTIFICATION

228. The authority citation for part 176 continues to read as follows:

Authority: 33 U.S.C. 1321(j); 46 U.S.C. 2103, 3205, 3306, 3307; 49 U.S.C. App. 1804; E.O. 11735, 38 FR 21243, 3 CFR, 1971-1975 Comp., p. 743; E.O. 12234, 45 FR 58801, 3 CFR, 1980 Comp., p. 277; Department of Homeland Security Delegation No. 0170.1.

§ 176.202 [Amended]

229. In § 176.202(b), after the text “Certificate of Inspection is turned over” and before the text “OCMI.”, remove the text “tot he” and add, in its place, the text “to the”.

PART 180—LIFESAVING EQUIPMENT AND ARRANGEMENTS

230. The authority citation for part 180 continues to read as follows:

Authority: 46 U.S.C. 2104, 3306; E.O. 12234, 45 FR 58801, 3 CFR, 1980 Comp., p. 277; Department of Homeland Security Delegation No. 0170.1.

§ 180.207 [Amended]

231. In § 180.207(e), after the words “route in shallow water where the vessel” and before the words “sink deep enough to submerge”, remove the words “can not” and add, in their place, the word “cannot”.

§ 180.208 [Amended]

232. In § 180.208(d), after the words “shallow water where the vessel” and before the words “sink deep enough to submerge”, remove the words “can not” and add, in their place, the word “cannot”.

PART 181—FIRE PROTECTION EQUIPMENT

233. The authority citation for part 181 continues to read as follows:

Authority: 46 U.S.C. 2103, 3306; E.O. 12234, 45 FR 58801, 3 CFR, 1980 Comp., p. 277; Department of Homeland Security Delegation No. 0170.1.

234. In § 181.500, revise the entry for “Accomodation Space” in Table 181.500(A) to read as follows:

§ 181.500 Required number, type, and location.

* * * * *

Table 181.500(A)
Space protected | Minimum number required | Type extinguisher permitted: CG class | Type extinguisher permitted: Medium | Type extinguisher permitted: Min size
* * * * * * *
Accommodation Space | 1 for each 232.3 square meters (2,500 square feet) or fraction thereof | A-II | Foam Dry Chemical | 9.5 L (2.5 gal). 4.5 kg (10 lb).
* * * * * * *

* * * * *

PART 182—MACHINERY INSTALLATION

235. The authority citation for part 182 continues to read as follows:

Authority: 46 U.S.C. 3306; E.O. 12234, 45 FR 58801, 3 CFR, 1980 Comp., p. 277; Department of Homeland Security Delegation No. 0170.1.

§ 182.455 [Amended]

236. In § 182.455(b)(9), after the words “from diesel fuel in water traps or” and before the words “are permitted.”, remove the word “stainers” and add, in its place, the word “strainers”.

§ 182.610 [Amended]

237. In § 182.610(f)(5), after the words “stop the steering gear before” and before the words “reaches the rudder stops required”, remove the word “its” and add, in its place, the word “it”.

PART 185—OPERATIONS

238. The authority citation for part 185 continues to read as follows:

Authority: 46 U.S.C. 2103, 3306, 6101; E.O. 12234, 45 FR 58801, 3 CFR, 1980 Comp., p. 277; Department of Homeland Security Delegation No. 0170.1.

§ 185.722 [Amended]

239. In § 185.722, after the words “must be inspected monthly, using the” and before the words “instructions to make sure it is”, remove the word “manufacturers” and add, in its place, the word “manufacturer's”.

PART 188—GENERAL PROVISIONS

240. The authority citation for part 188 continues to read as follows:

Authority: 46 U.S.C. 2113, 3306; Pub. L 103-206, 107 Stat. 2439; 49 U.S.C. 5103, 5106; E.O. 12234, 45 FR 58801, 3 CFR, 1980 Comp., p. 277; Department of Homeland Security Delegation No. 0170.1.

§ 188.05-1 [Amended]

241. In § 188.05-1(a), after the text “indicated in Column 6 of Table” and before the text ” to the extent prescribed”, remove the text “188.05-1(a)” and add, in its place, the text “2.01-7(A)”; and remove Table 188.05-1(A).

§ 188.10-56 [Amended]

242. In § 188.10-56(a), after the words “means a pilot ladder,” and before the words “ladder, pilot hoist, or combination”, remove the word “accomodation” and add, in its place, the word “accommodation”.

PART 189—INSPECTION AND CERTIFICATION

243. The authority citation for part 189 continues to read as follows:

Authority: 33 U.S.C. 1321(j); 46 U.S.C. 2113, 3306, 3307; E.O. 12234, 45 FR 58801, 3 CFR, 1980 Comp., p. 277; E.O. 12777, 56 FR 54757, 3 CFR, 1991 Comp., p. 351; Department of Homeland Security Delegation No. 0170.1.

§ 189.25-10 [Amended]

244. In § 189.25-10(a), after the words “and their appurtenances, piping, main and” and before the words “machinery, electrical installations, life-saving”, remove the word “auxilliary” and add, in its place, the word “auxiliary”.

PART 190—CONSTRUCTION AND ARRANGEMENT

245. The authority citation for part 190 continues to read as follows:

Authority: 46 U.S.C. 2113, 3306; E.O. 12234, 45 FR 58801, 3 CFR, 1980 Comp., p. 277; Department of Homeland Security Delegation No. 0170.1.

246. In § 190.05-20(d), after the words “shall be similarly separated from” and before the words “spaces and high fire hazard areas”, remove the word “accomodation” and add, in its place, the word “accommodation”.

§ 190.07-10 [Amended]

247. Amend § 190.07-10 as follows:

a. In paragraph (c), after the words “bulkheads and decks separating the” and before the words “and control stations from hold and machinery”, remove the word “accomodations” and add, in its place, the word “accommodations”; and

b. In paragraph (d)(6), after the words “used in thicknesses not exceeding” and before the words “of an inch.”, remove the word “three-eights” and add, in its place, the word “three-eighths”.

PART 194—HANDLING, USE, AND CONTROL OF EXPLOSIVES AND OTHER HAZARDOUS MATERIALS

248. The authority citation for part 194 continues to read as follows:

Authority: 46 U.S.C. 2103, 2113, 3306; 49 U.S.C. App. 1804; E.O. 12234, 45 FR 58801, 3 CFR, 1980 Comp., p. 277; Department of Homeland Security Delegation No. 0170.1.

§ 194.15-17 [Amended]

249. In § 194.15-17(d), after the words “Systems providing gas for” and before the words “burners or similar semipermanent/permanent”, remove the word “bunsen” and add, in its place, the word “Bunsen”.

PART 196—OPERATIONS

250. The authority citation for part 196 continues to read as follows:

Authority: 33 U.S.C. 1321(j); 46 U.S.C. 2213, 3306, 5115, 6101; E.O. 12777, 56 FR 54757, 3 CFR, 1991 Comp., p. 351; E.O. 12234, 45 FR 58801, 3 CFR, 1980 Comp., p. 277; Department of Homeland Security Delegation No. 0170.1.

251. Revise § 196.05-1 to read as follows:

§ 196.05-1 Duty of officers.

(a) Licensed deck officers are required to acquaint themselves with the latest information published by the Coast Guard and the National Geospatial-Intelligence Agency regarding aids to navigation. Neglect to do so is evidence of neglect of duty. It is desirable that all vessels have available in the pilothouse for convenient reference at all times a file of the applicable Notice to Mariners.

(b) Local Notices to Mariners, published by each U.S. Coast Guard District, contain announcements and information on changes in aids to navigation and other marine information affecting the safety of navigation on oceans and coastwise and the Great Lakes. These notices may be obtained free of charge from the U.S. Coast Guard Navigation Center Web site found at http://www.navcen.uscg.gov/?pageName=lnmMain.

(c) Weekly Notices to Mariners (Worldwide coverage) are prepared jointly by the National Geospatial-Intelligence Agency, National Ocean Service, and the U.S. Coast Guard. They include changes in aids to navigation and other important navigation safety information in assembled form for U.S. waters. Foreign marine information is also included in these notices. These notices are available without charge from the National Geospatial-Intelligence Agency Web site found at http://msi.nga.mil/NGAPortal/MSI.portal.

§ 196.19-1 [Amended]

252. In § 196.19-1(a)(4), after the words “For each vessel with a” and before the words “pitch propeller a table of control settings”, remove the word “controlable” and add, in its place, the word “controllable”.

§ 196.37-5 [Amended]

253. In § 196.37-5(a), after the words “in accordance with requirements in” and before the words “J (Electrical Engineering Regulations)”, remove the word “Subpchapter” and add, in its place, the word “Subchapter”.

PART 197—GENERAL PROVISIONS

254. The authority citation for part 197 continues to read as follows:

Authority: 33 U.S.C. 1509; 43 U.S.C. 1333; 46 U.S.C. 3306, 3703, 6101; Department of Homeland Security Delegation No. 0170.1.

§ 197.402 [Amended]

255. In § 197.402(b), after the words “Prior to permitting any” and before the words “diving operation involving liveboating”, remove the word “commerical” and add, in its place, the word “commercial”.

§ 197.410 [Amended]

256. In § 197.410(b)(3), after the words “Communications are lost and” and before the words “be quickly reestablished”, remove the words “can not” and add, in their place, the word “cannot”.

§ 197.550 [Amended]

257. In § 197.550(g)(3), after the words “period not to exceed eight hours,” and before the words “comes first.”, remove the words “which ever” and add, in their place, the word “whichever”.

§ 197.560 [Amended]

258. Amend § 197.560 as follows:

a. In paragraph (d)(1)(i), after the words “employee's pre-exposure norms, if these findings” and before the words “be explained by other medical reasons.”, remove the words “can not” and add, in their place, the word “cannot”; and

b. In paragraph (e)(1), after the words “unavoidable circumstances the sample” and before the words “be tested by a laboratory within 72 hours”, remove the words “can not” and add, in their place, the word “cannot”.

PART 199—LIFESAVING SYSTEMS FOR CERTAIN INSPECTED VESSELS

259. The authority citation for part 199 is revised to read as follows:

Authority: 46 U.S.C. 3306, 3703; Pub. L. 103-206, 107 Stat. 2439; Department of Homeland Security Delegation No. 0170.1.

§ 199.190 [Amended]

260. In § 199.190(g)(2), after the words “must be serviced in accordance with the” and before the words “manual and meet the requirements of”, remove the word “owners” and add, in its place, the word “owner's”.

Dated: September 9, 2014.
Katia Cervoni,
Chief, Office of Regulations and Administrative Law, U.S. Coast Guard.

[FR Doc. 2014-21994 Filed 9-26-14; 8:45 am]

BILLING CODE 9110-04-P